DEPARTMENT OF HEALTH AND HUMAN SERVICES

Centers for Disease Control and Prevention

[60Day-15-15AOX; Docket No. CDC-2015-0052]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995.

This notice invites comment on a proposed Harmful Algal Bloom Illness-related Surveillance System (HABISS) information collection.

DATES: Written comments must be received on or before September 21, 2015.

ADDRESSES: You may submit comments, identified by Docket No. CDC-2015-0052 by any of the following methods:

• Federal eRulemaking Portal: Regulation.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Harmful Algal Bloom-related Illness Surveillance System (HABISS)—NEW—National Center for Emerging and Zoonotic Infectious Diseases, Centers for Disease Control and Prevention (CDC).

Background and Brief Description

Due to defunding and as part of a revision in 2014 of the information collection entitled National Disease Surveillance Program II: Disease Summaries (OMB Control Number 0920-0004), CDC discontinued its data collection of harmful algal bloom-related illnesses through its Harmful Algal Bloom-related Illness Surveillance System (HABISS). However, in part to the Great Lakes Restorative Initiative, the National Center for Emerging and Zoonotic Infectious Diseases (NCEZID) now considers harmful algal bloom-related illness surveillance as a priority and will seek a three-year OMB approval for HABISS.

The goal of harmful algal bloom-related illness surveillance is to collect data on harmful algal blooms (HABs), human illnesses, and animal illnesses related to HAB exposures and use the data to better define and prevent HAB-related illnesses. HABs are the fast growth of aquatic organisms including algae, cyanobacteria, phytoplankton, and similar organisms. HABs can produce potent natural toxins that can contaminate surface water used for recreation, drinking water, or food sources. Contaminated water and food can cause illness when people or animals have exposures to them. HABs are an emerging public health concern with several outbreaks related to HAB exposures through contact, inhalation, and ingestion of contaminated fish, shellfish, and water. In humans and animals, illnesses related to HAB exposures have ranged from dermatologic, respiratory, gastrointestinal, neurological illness, and even death. HABs might be identified through the reporting of single cases of human or animal illness as indicators.

HABISS data will be reported by states and territories in a web-based electronic reporting system. The National Outbreak Reporting System (NORS) (OMB Control Number 0920-0004) is an existing password-protected web-based surveillance platform for national reporting of foodborne, waterborne, and other enteric outbreaks. HAB-related outbreaks can already be reported by state and territorial health departments in NORS; however, there is currently no national surveillance for single cases of human or animal illnesses. State and territorial staff with access to NORS will be able to use a hyperlink on the NORS main user page to report individual human and animal case information related to HAB exposures. State agencies will voluntarily report single human and animal illnesses related to HAB exposures, as well as environmental data about HABs.

HABISS data will include the date of the HAB, the type of exposure that the person or animal had, the length of the exposure, signs and symptoms, and laboratory testing. No Personally Identifiable Information (PII) will be reported or collected. CDC will use the data to better characterize human and animal illnesses related to HAB exposures and to inform future prevention efforts, health departments, federal partners and other stakeholders.

There are no costs to respondents other than their time.

CDC will analyze and present the collected data through summaries and reports.

It is estimated that epidemiologists will report illnesses and HAB events three times during the year with a burden of 20 minutes. An estimated total burden for HABISS data reporting is 57 hours per year.

Estimated Annualized Burden Hours
Type of respondents | Form name | Number of respondents | Number of responses per respondent | Average burden per response (in hours) | Total burden (in hours)
State Epidemiologists | Harmful Algal Bloom Illness Surveillance System (HABISS) data elements (electronic, year-round) | 57 | 3 | 20/60 | 57
Total |  |  |  |  | 57

Leroy A. Richardson,
Chief, Information Collection Review Office, Office of Scientific Integrity, Office of the Associate Director for Science, Office of the Director, Centers for Disease Control and Prevention.

[FR Doc. 2015-17792 Filed 7-20-15; 8:45 am]

BILLING CODE 4163-18-P